SECURITIES AND EXCHANGE COMMISSION

[File No. 500-1]

Alderox, Inc., Applied Solar, Inc., Artes Medical, Inc., AskMeNow, Inc., Blink Logic Inc., and Convergence Ethanol, Inc.; Order of Suspension of Trading

May 18, 2012.

It appears to the Securities and Exchange Commission that there is a lack of current and accurate information concerning the securities of Alderox, Inc. because it has not filed any periodic reports since the period ended March 31, 2008.

It appears to the Securities and Exchange Commission that there is a lack of current and accurate information concerning the securities of Applied Solar, Inc. because it has not filed any periodic reports since the period ended February 28, 2009.

It appears to the Securities and Exchange Commission that there is a lack of current and accurate information concerning the securities of Artes Medical, Inc. because it has not filed any periodic reports since the period ended September 30, 2008.

It appears to the Securities and Exchange Commission that there is a lack of current and accurate information concerning the securities of AskMeNow, Inc. because it has not filed any periodic reports since the period ended March 31, 2008.

It appears to the Securities and Exchange Commission that there is a lack of current and accurate information concerning the securities of Blink Logic Inc. because it has not filed any periodic reports since the period ended June 30, 2009.

It appears to the Securities and Exchange Commission that there is a lack of current and accurate information concerning the securities of Convergence Ethanol, Inc. because it has not filed any periodic reports since the period ended June 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 18, 2012, through 11:59 p.m. EDT on June 1, 2012.

By the Commission.
Jill M. Peterson,
Assistant Secretary.

[FR Doc. 2012-12482 Filed 5-18-12; 4:15 pm]

BILLING CODE 8011-01-P